DEPARTMENT OF COMMERCE

International Trade Administration

[A-560-810]

Notice of Postponement of Final Antidumping Duty Determination and Extension of Provisional Measures: Certain Expandable Polystyrene Resins From Indonesia

AGENCY: Import Administration, International Trade Administration, Department of Commerce.

EFFECTIVE DATE: August 3, 2000.

FOR FURTHER INFORMATION CONTACT: Valerie Ellis at (202) 482-2336 or Charles Riggle at (202) 482-0650, AD/CVD Enforcement, Office V, DAS Group II, Import Administration, International Trade Administration, U.S. Department of Commerce, 14th Street and Constitution Avenue NW, Washington, DC 20230.

Postponement of Final Determinations

The Department of Commerce (the Department) is postponing the final determination in the antidumping duty investigation of certain expandable polystyrene resins from Indonesia.

On June 26, 2000, the Department published its preliminary determination in this investigation. See Notice of Preliminary Determination of Sales at Less Than Fair Value: Certain Expandable Polystyrene Resins From Indonesia, 65 FR 39349. The notice stated that the Department would issue its final determination no later than 75 days after the date of issuance of the notice.

Pursuant to section 735(a)(2)(A) of the Tariff Act of 1930, as amended (the Act), on July 11, 2000, PT Risjad Brasali Styrindo (RBS), the sole respondent in the investigation, requested that the Department postpone its final determination. Further to this request, RBS requested that the Department extend to not more than six months the application of the provisional measures prescribed under paragraphs (1) and (2) of section 733(d) of the Act. In accordance with section 735(a) of the Act and 19 CFR 351.210(b), because the preliminary determination in this case is affirmative and the request for postponement was submitted in writing by an exporter who accounts for a significant proportion of exports of the subject merchandise in this investigation, we are postponing the final determination until no later than 135 days after the publication of the preliminary determination in the Federal Register (i.e., until no later than November 8, 2000). Suspension of liquidation will be extended accordingly.

This extension is in accordance with section 735(a)(2)(A) of the Act, and 19 CFR 351.210(b)(2).

Dated: July 27, 2000.
Troy H. Cribb,
Acting Assistant Secretary for Import Administration.

[FR Doc. 00-19690 Filed 8-2-00; 8:45 am]

BILLING CODE 3510-DS-P